DEPARTMENT OF THE INTERIOR

Fish and Wildlife Service

50 CFR Part 17

[Docket No. FWS-R8-ES-2016-0078; 4500030113]

RIN 1018-BB64

Endangered and Threatened Wildlife and Plants; 6-Month Extension of Final Determination on the Proposed Threatened Status for Chorizanthe parryi var. fernandina (San Fernando Valley Spineflower)

AGENCY: Fish and Wildlife Service, Interior.

ACTION: Proposed rule; reopening of the comment period.

SUMMARY: We, the U.S. Fish and Wildlife Service (Service), announce a 6-month extension of the final determination of whether to list the Chorizanthe parryi var. fernandina (San Fernando Valley spineflower), a plant species from southern California, as a threatened species. Along with this announcement to extend the final determination, we are also reopening the comment period on the proposed rule to list the species, for an additional 30 days. We are taking this action to extend the final determination based on substantial disagreement regarding the potential impact of Argentine ant invasion on the pollination ecology of C. parryi var. fernandina and scientific uncertainty related to establishment of C. parryi var. fernandina using introduction of seed into suitable, unoccupied areas. Comments previously submitted need not be resubmitted as they are already incorporated into the public record and will be fully considered in the final rule. We will submit a final listing determination to the Federal Register on or before March 15, 2018.

DATES: The comment period for the proposed rule that published September 15, 2016, at 81 FR 63454 is reopened. We will accept comments received or postmarked on or before August 18, 2017. If you comment using the Federal eRulemaking Portal (see ADDRESSES), you must submit your comments by 11:59 p.m. Eastern Time on the closing date.

ADDRESSES: You may submit comments by one of the following methods:

(1) Federal eRulemaking Portal: http://www.regulations.gov. In the Search box, enter the docket number for this proposed rule, which is FWS-R8-ES-2016-0078. Then click on the Search button. You may submit a comment by clicking on “Comment Now!” Please ensure that you have found the correct rulemaking before submitting your comment.

(2) U.S. mail or hand delivery: Public Comments Processing, Attn: Docket No. FWS-R8-ES-2016-0078; U.S. Fish and Wildlife Service, MS: BPHC; 5275 Leesburg Pike; Falls Church, VA 22041-3803.

FOR FURTHER INFORMATION CONTACT: Stephen P. Henry, Field Supervisor, U.S. Fish and Wildlife Service, Ventura Fish and Wildlife Office, 2493 Portola Road, Ventura, CA 93003; telephone 805-644-5763; facsimile 805-644-3958. Persons who use a telecommunications device for the deaf (TDD) may call the Federal Relay Service at 800-877-8339.

SUPPLEMENTARY INFORMATION:

Background

On September 15, 2016, we published a proposed rule (81 FR 63454) to list Chorizanthe parryi var. fernandina as a threatened species under the Endangered Species Act of 1973, as amended (Act; 16 U.S.C. 1531 et seq.). That proposal had a 60-day comment period, ending November 14, 2016. For a description of previous Federal actions concerning C. parryi var. fernandina, please refer to the September 15, 2016, proposed listing rule (81 FR 63454). We also solicited and received independent scientific review of the information contained in the proposed rule from peer reviewers with expertise in C. parryi var. fernandina or similar species ecology and identified threats to the species, in accordance with our July 1, 1994, peer review policy (59 FR 34270).

Section 4(b)(6) of the Act and its implementing regulations at 50 CFR 424.17(a) require that we take one of three actions within 1 year of a proposed listing: (1) Finalize the proposed rule; (2) withdraw the proposed rule; or (3) extend the final determination by not more than 6 months, if there is substantial disagreement regarding the sufficiency or accuracy of the available data relevant to the determination.

Since the publication of the September 15, 2016, proposed listing rule (81 FR 63454), there has been substantial disagreement among peer reviewers regarding the potential impact of the invasion of Argentine ants (Linepithema humile) on the pollination ecology of C. parryi var. fernandina, and there is scientific uncertainty related to establishment of C. parryi var. fernandina using introduction of seed into suitable, unoccupied areas.

We find that there is substantial scientific uncertainty and disagreement about certain data relevant to our listing determination. Therefore, in consideration of these disagreements, we have determined that a 6-month extension of the final determination for this rulemaking is necessary, and we are hereby extending the final determination for 6 months in order to solicit and consider additional information that will help to clarify these issues and to fully analyze data that are relevant to our final listing determination. With this 6-month extension, we will make a final determination on the proposed rule no later than March 15, 2018.

Information Requested

We will accept written comments and information during this reopened comment period on our proposed listing for Chorizanthe parryi var. fernandina that was published in the Federal Register on September 15, 2016 (81 FR 63454). We will consider information and recommendations from all interested parties. We intend that any final action resulting from the proposal be as accurate as possible and based on the best available scientific and commercial data.

In consideration of the scientific disagreements about certain data, we are particularly interested in new information and comments regarding:

(1) How Argentine ant invasion may affect the pollination ecology of C. parryi var. fernandina; and

(2) The efficacy of seed introduction for long-term establishment into suitable, unoccupied habitat of Chorizanthe or related taxa.

If you previously submitted comments or information on the September 15, 2016, proposed rule (81 FR 63454), please do not resubmit them. We have incorporated previously submitted comments into the public record, and we will fully consider them in the preparation of our final determination. Our final determination concerning the proposed listing will take into consideration all written comments and any additional information we receive.

You may submit your comments and materials concerning the proposed rule by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing the proposed rule, will be available for public inspection on http://www.regulations.gov, or by appointment, during normal business hours, at the U.S. Fish and Wildlife Service, Ventura Fish and Wildlife Office (see FOR FURTHER INFORMATION CONTACT). You may obtain copies of the proposed rule at http://www.regulations.gov at Docket No. FWS-R8-ES-2016-0078. Copies of the proposed rule are also available at http://www.fws.gov/cno/es//.

Authority

The authority for this action is the Endangered Species Act of 1973, as amended (16 U.S.C. 1531 et seq.).

Dated: June 23, 2017.
Gregory Sheehan,
Acting Director, U.S. Fish and Wildlife Service.

[FR Doc. 2017-15126 Filed 7-18-17; 8:45 am]

BILLING CODE 4333-15-P